DEPARTMENT OF HEALTH AND HUMAN SERVICES

Centers for Medicare and Medicaid Services

[Document Identifier: CMS-10117, 10118, 10119, 10135, 10136 and 10214]

Emergency Clearance: Public Information Collection Requirements Submitted to the Office of Management and Budget (OMB)

AGENCY: Center for Medicare and Medicaid Services, HHS.

In compliance with the requirement of section 3506(c)(2)(A) of the Paperwork Reduction Act of 1995, the Centers for Medicare and Medicaid Services (CMS), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

We are, however, requesting an emergency review of the information collection referenced below. In compliance with the requirement of section 3506(c)(2)(A) of the Paperwork Reduction Act of 1995, we have submitted to the Office of Management and Budget (OMB) the following requirements for emergency review. We are requesting an emergency review because the collection of this information is needed before the expiration of the normal time limits under OMB's regulations at 5 CFR Part 1320. This is necessary to ensure compliance with an initiative of the Administration. We cannot reasonably comply with the normal clearance procedures because the use of normal clearance procedures is reasonably likely to cause a statutory deadline to be missed.

The Social Security Act requires that applicant organizations, offering Part C benefits for January 2008 be contracted with CMS for their approved service area with open enrollment beginning on November 15, 2007. Further, the Act requires the submission of Part C benefit bids from applicant organizations by the first Monday in June of 2007. In order to meet the Medicare Prescription Drug Improvement and Modernization Act requirements, key preceding events must occur. If these events do not occur according to the statutorily mandated timeline, other statutory requirements will not be met.

For the 2008 contract year, CMS is implementing several steps to reduce the person-hours necessary to complete the Part C solicitations. These steps include automating substantial portions of the Part C Plan solicitations within CMS' Health Plan Management System (HPMS) and streamlining key information previously requested by attachments.

Type of Information Collection Request: Revision of a currently approved collection.

Title of Information Collection; Medicare Advantage Applications: Medicare Advantage (MA) Application Coordinated Care Plans (CMS-10117); Medicare Advantage (MA) Application Private Fee-For-Service Plans (CMS-10118); Medicare Advantage (MA) Application Regional PPO Plans (CMS-10119); Medicare Advantage (MA) Application Service Area Expansion (SAE) for Coordinated Care Plans: Private Fee Service Plans (CMS-10135); Medical Savings Account Plans (CMS-10136); and Employer Group Waiver Plans (CMS-10214).

Form Number: CMS-10117, 10118, 10119, 10135, 10136 and 10214 (OMB#: 0938-0935).

Use: An entity seeking a contract as an MA organization must be able to provide Medicare's basic benefits plus meet the organizational requirements set out under the regulations at 42 CFR Part 422. An applicant must demonstrate that it can meet the benefit and other requirements within the specific geographic area it is requesting. The application forms are designed to give CMS the information needed to determine a health plan's compliance with the regulations at 42 CFR Part 422. The MA application forms will be used by CMS to determine whether an entity is eligible to enter into a contract to provide services to Medicare beneficiaries.

Frequency: Reporting—Once.

Affected Public: Business or other for-profit and Not-for-profit institutions.

Number of Respondents: 220.

Total Annual Responses: 220.

Total Annual Hours: 5580.

CMS is requesting OMB review and approval of this collection by January 5, 2007, with a 180-day approval period. Written comments and recommendation will be considered from the public if received by the individuals designated below by December 22, 2006.

To obtain copies of the supporting statement and any related forms for the proposed paperwork collections referenced above, access CMS's Web site address at http://www.cms.hhs.gov/PaperworkReductionActof1995 or e-mail your request, including your address, phone number, OMB number, and CMS document identifier, to Paperwork@cms.hhs.gov, or call the Reports Clearance Office on (410) 786-1326.

Interested persons are invited to send comments regarding the burden or any other aspect of these collections of information requirements. However, as noted above, comments on these information collection and recordkeeping requirements must be mailed and/or faxed to the designees referenced below by December 22, 2006:

Centers for Medicare and Medicaid Services, Office of Strategic Operations and Regulatory Affairs, Attn: Bonnie L. Harkless, Room C4-26-05, 7500 Security Boulevard, Baltimore, MD 21244-1850, and,

OMB Human Resources and Housing Branch, Attention: Carolyn Lovett, New Executive Office Building, Room 10235, Washington, DC 20503. Fax Number: (202) 395-6974.

Dated: November 30, 2006.
Michelle Shortt,
Director, Regulations Development Group, Office of Strategic Operations and Regulatory Affairs.

[FR Doc. E6-20666 Filed 12-7-06; 8:45 am]

BILLING CODE 4120-01-P